COMMITTEE FOR THE IMPLEMENTATION OF TEXTILE AGREEMENTS

Request for Public Comment on a Commercial Availability Request under the U.S.-Bahrain Free Trade Agreement

July 15, 2009.

AGENCY: Committee for the Implementation of Textile Agreements (CITA).

ACTION: Request for public comments concerning a request for modification of the U.S.-Bahrain Free Trade Agreement (USBFTA) rules of origin for certain compacted, single, ring spun cotton yarns.

SUMMARY: On April 1, 2009, the Government of the United States received a request from the Government of Bahrain for consultations under Article 3.2.3 of the USBFTA. Bahrain is seeking agreement to revise the rules of origin for certain bedding, curtains, bed covers, and pillow covers to address availability of supply of certain compacted ring spun cotton yarns in the territories of the Parties. On July 7, 2009, the United States received additional information from Bahrain to address certain issues with respect to the April 1 request, including identification that the subject request is for certain compacted, single, ring spun cotton yarns classified in subheadings 5205.27.0020 and 5205.28.0020 of the Harmonized Tariff Schedule of the United States (HTSUS). The President may proclaim a modification to the USBFTA rules of origin for textile and apparel products after reaching an agreement with the Government of Bahrain on the modification. CITA hereby solicits public comments on this request, in particular with regard to whether certain compacted, single, ring spun cotton yarns of HTSUS 5205.27.0020 and 5205.28.0020 can be supplied by the domestic industry in commercial quantities in a timely manner. Comments must be submitted by August 20, 2009 to the Chairman, Committee for the Implementation of Textile Agreements, Room 3001, United States Department of Commerce, Washington, DC 20230.

FOR FURTHER INFORMATION CONTACT: Jim Bennett, Office of Textiles and Apparel, U.S. Department of Commerce, (202) 482-4058.

SUPPLEMENTARY INFORMATION:

Authority: Section 202 (j)(2)(B)(i) of the United States - Bahrain Free Trade Agreement Implementation Act (19 U.S.C. 3805 note) (USBFTA Implementation Act); Executive Order 11651 of March 3, 1972, as amended.

Background

Under the USBFTA, the parties are required to progressively eliminate customs duties on originating goods. See Article 2.3.2. The USBFTA provides that, after consultations, the parties may agree to revise the rules of origin for textile and apparel products to address issues of availability of supply of fibers, yarns, or fabrics in the free trade area. See Article 3.2.3 of the USBFTA. In the consultations, each party must consider data presented by the other party showing substantial production of the good. Substantial production has been shown if domestic producers are capable of supplying commercial quantities of the good in a timely manner. See Article 3.2.4 of the USBFTA.

The USBFTA Implementation Act provides the President with the authority to proclaim modifications to the USBFTA rules of origin as are necessary to implement the agreement after complying with the consultation and layover requirements of Section 104 of the USBFTA Implementation Act. See Section 202(j)(2)(B)(i) of the USBFTA Implementation Act. Executive Order 11651 established CITA to supervise the implementation of textile trade agreements and authorizes the Chairman of CITA to take actions or recommend that the United States take actions necessary to implement textile trade agreements. 37 FR 4699 (March 4, 1972).

On April 1, 2009, the Government of the United States received a request from the Government of Bahrain, alleging that certain compacted ring spun cotton yarns cannot be supplied by the domestic or Bahraini industry in commercial quantities in a timely manner and requesting that the United States consider whether the USBFTA rule of origin for certain bedding, curtains, bed covers, and pillow covers, classified under HTSUS subheadings 6302.21.9010, 6302.21.9020, 6302.31.5010, 6302.31.5020, 6302.31.9010, 6302.31.9020, 6303.91.0020, 6304.92.0000, 6307.90.8945, 6307.90.8985, and 6307.90.8995, should be modified to allow the use of non-U.S. and non-Bahraini certain compacted ring spun cotton yarns. On July 7, 2009, the United States received additional information from Bahrain to address certain issues with respect to the April 1 request, including identification that the subject request is for certain compacted, single, ring spun cotton yarns classified in subheadings 5205.27.0020 and 5205.28.0020 of the HTSUS.

CITA is soliciting public comments regarding this request, particularly with respect to whether certain compacted, single, ring spun cotton yarns described above can be supplied by the domestic industry in commercial quantities in a timely manner. Comments must be received no later than August 20, 2009. Interested persons are invited to submit six copies of such comments or information to the Chairman, Committee for the Implementation of Textile Agreements, Room 3001, U.S. Department of Commerce, 14th and Constitution Avenue, N.W., Washington, DC 20230.

CITA will protect any business confidential information that is marked business confidential from disclosure to the full extent permitted by law. CITA will make available to the public non-confidential versions of the request and non-confidential versions of any public comments received with respect to a request in room 3001 in the Herbert Hoover Building, 14th and Constitution Avenue, N.W., Washington, DC 20230. Persons submitting comments on a request are encouraged to include a non-confidential version and a non-confidential summary.

Janet E. Heinzen,
Acting Chairman, Committee for the Implementation of Textile Agreements.

[FR Doc. E9-17277 Filed 7-20-09; 8:45 am]

BILLING CODE 3510-DS